DEPARTMENT OF COMMERCE

National Institute of Standards and Technology

Manufacturing Extension Partnership Advisory Board

AGENCY: National Institute of Standards and Technology, Commerce.

ACTION: Notice of open meeting.

SUMMARY: The National Institute of Standards and Technology (NIST) announces that the Manufacturing Extension Partnership (MEP) Advisory Board will hold an open meeting on Thursday May 19, 2016, from 8:30 a.m. to 4:00 p.m. Eastern Standard Time.

DATES: The meeting will be held Thursday, May 19, 2016, from 8:30 a.m. to 4:00 p.m. Eastern Standard Time.

ADDRESSES: The meeting will be held at the Charleston Marriott Hotel, 170 Lockwood Blvd. Charleston, SC 29403. Please note admittance instructions in the SUPPLEMENTARY INFORMATION section below.

FOR FURTHER INFORMATION CONTACT: Zara Brunner, Manufacturing Extension Partnership, National Institute of Standards and Technology, 100 Bureau Drive, Mail Stop 4800, Gaithersburg, Maryland 20899-4800, telephone number (301) 975-2001, email: zara.brunner@nist.gov.

SUPPLEMENTARY INFORMATION: The MEP Advisory Board (Board) is authorized under Section 3003(d) of the America COMPETES Act (Pub. L. 110-69); codified at 15 U.S.C. 278k(e), as amended, in accordance with the provisions of the Federal Advisory Committee Act, as amended, 5 U.S.C. App. The Board is composed of 10 members, appointed by the Director of NIST. Hollings MEP is a unique program, consisting of centers across the United States and Puerto Rico with partnerships at the state, federal, and local levels. The Board provides a forum for input and guidance from Hollings MEP program stakeholders in the formulation and implementation of tools and services focused on supporting and growing the U.S. manufacturing industry, provides advice on MEP programs, plans, and policies, assesses the soundness of MEP plans and strategies, and assesses current performance against MEP program plans. Background information on the Board is available at http://www.nist.gov/mep/about/advisory-board.cfm.

Pursuant to the Federal Advisory Committee Act, as amended, 5 U.S.C. App., notice is hereby given that the MEP Advisory Board will hold an open meeting on Thursday, May 19, 2016, from 8:30 a.m. to 4:00 p.m. Eastern Standard Time. This meeting will focus on several topics. The Board will receive an update on NIST MEP programmatic operations, as well as provide guidance and advice to MEP senior management for the drafting of the 2017-2022 Strategic Plan. The Board will also provide input on developing protocols to connect user facilities, research, and technologies at NIST and other federal laboratories with small and mid-size manufacturers, and make recommendations on the establishment of an MEP Learning Organization, an effort to strengthen connections by sharing best practices and building Working Groups and Communities of Practice for furtherance of the MEP Program's mission. The final agenda will be posted on the MEP Advisory Board Web site at http://www.nist.gov/mep/about/advisory-board.cfm. This is meeting is being held in conjunction with the MEP Update Meeting that will be held May 17-18, 2016 also at the Charleston Marriott.

Admittance Instructions: Anyone wishing to attend the MEP Advisory Board meeting should submit their name, email address and phone number to Monica Claussen (monica.claussen@nist.gov or 301-975-4852) no later than Monday, May 9, 2016, 5:00 p.m. Eastern Time.

Individuals and representatives of organizations who would like to offer comments and suggestions related to the MEP Advisory Board's business are invited to request a place on the agenda. Approximately 15 minutes will be reserved for public comments at the end of the meeting. Speaking times will be assigned on a first-come, first-served basis. The amount of time per speaker will be determined by the number of requests received but is likely to be no more than three to five minutes each. The exact time for public comments will be included in the final agenda that will be posted on the MEP Advisory Board Web site as http://www.nist.gov/mep/about/advisory-board.cfm. Questions from the public will not be considered during this period. Speakers who wish to expand upon their oral statements, those who had wished to speak but could not be accommodated on the agenda, and those who were unable to attend in person are invited to submit written statements to the MEP Advisory Board, National Institute of Standards and Technology, National Institute of Standards and Technology, 100 Bureau Drive, Mail Stop 4800, Gaithersburg, Maryland 20899-4800, or via fax at (301) 963-6556, or electronically by email to zara.brunner@nist.gov.

Phillip Singerman,
Associate Director for Innovations and Industry Services.

[FR Doc. 2016-08933 Filed 4-18-16; 8:45 am]

BILLING CODE 3510-13-P